DEPARTMENT OF JUSTICE

Antitrust Division

Notice Pursuant to the National Cooperative Research and Production Act of 1993—American Concrete Institute

Notice is hereby given that, on September 13, 2004, pursuant to section 6(a) of the National Cooperative Research and Production Act of 1993, 15 U.S.C. 4301 et seq. (“the Act”), the American Concrete Association (“ACI”), has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: American Concrete Institute, Farmington Hills, MI. The nature and scope of ACI's standards development activities are: ACI provides contributions to the body of consensus knowledge for concrete materials and the resulting applications in the built environment. Each ACI technical committee explores and reports on areas of knowledge within the scope of its specific missions. This reporting can be done by the creation or revision of an ACI Code, Specification or Guide (collectively referred to as “Standards”).

ACI maintains Standards on a wide variety of subjects related to concrete, concrete related items, such as steel reinforcement, properties relating to concrete design and construction, such as fire resistance, and how best to design and construct concrete in its many applications.

Related to the material of concrete, ACI issues Standards on mixture ingredients and proportions, time-dependent chemical and physical characteristics, and hardened properties of different types of concretes, such as: Normalweight; lightweight; heavyweight; soil cement; shrinkage compensating; no slump; pervious; self-consolidating; high strength; shotcrete; plaster; polymer modified; fiber reinforced; roller compacted; and sulfur concrete.

Related to the design, construction and repair of various applications for concrete, ACI issues Standards on commercial buildings, industrial floors, architectural, pavements, parking lots, residential, shells, piers, foundations, bridge structures and systems, pipe, nuclear containment, sanitary structures, barges, offshore structures, silos, guideways, parking structures, dams and water tanks.

Related to items important to the construction of concrete, ACI issues Standards on formwork; batching, mixing; placing; consolidation; finishing; curing; inspection; testing; jointing; reinforcement; fire resistance; anchorage to concrete, durability; field tolerances; quality assurance systems; and cracking.

Related to design of concrete elements and systems, ACI issues Standards on structural strength of elements such as slabs, beams, columns, walls, foundations, shells, and diaphragms; elastic and inelastic characteristics; thermal properties; volumetric changes; design, detailing, and protection of reinforcing bars, welded wire reinforcement, and prestress steel; behavior under seismic conditions; behavior of monolithic and discrete joints, and behavior under dynamic loads.

Related to techniques of construction, ACI issues Standards on cast-in-place, factory precast, tilt-up, concrete block, shotcrete, underwater concreting, ferrocement, overlays, mass concrete, cellular concrete, fiber reinforced polymer (FRP) reinforced, prestressed, post-tensioned, and slip formed.

All of the current ACI Standards are published as the ACI Manual of Concrete Practice, which is printed in six parts and is available from ACI.

Dorothy B. Fountain,
Deputy Director of Operations, Antitrust Division.

[FR Doc. 04-25078 Filed 11-9-04; 8:45 am]

BILLING CODE 4410-11-M